NUCLEAR REGULATORY COMMISSION

[NRC-2009-0345]

Draft Regulatory Guide: Issuance, Availability

AGENCY: Nuclear Regulatory Commission.

ACTION: Notice of Issuance and Availability of Draft Regulatory Guide, DG-5034, “Protection of Safeguards Information.”

FOR FURTHER INFORMATION CONTACT: Robert Norman, U.S. Nuclear Regulatory Commission, Washington, DC 20555-0001, telephone: (301) 415-2278 or e-mail Robert.Norman@nrc.gov.

SUPPLEMENTARY INFORMATION:

I. Introduction

The U.S. Nuclear Regulatory Commission (NRC) is issuing for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), entitled, “Protection of Safeguards Information,” is temporarily identified by its task number, DG-5034, which should be mentioned in all related correspondence. DG-5034 will be a new regulatory guide. Title 10, section 73.21, “Protection of Safeguards Information: Performance Requirements,” of the Code of Federal Regulations (10 CFR 73.21) requires, in part, that each licensee, certificate holder, applicant, or other person who produces, receives, or acquires Safeguards Information (SGI) shall ensure that it is protected against unauthorized disclosure.

This guide describes a method that the staff of the NRC considers acceptable to implement the general performance requirements specified in 10 CFR 73.21(a)(i) and (ii) that establish, implement, and maintain an information protection system that includes the applicable measures for SGI specified in 10 CFR 73.22, “Protection of Safeguards Information: Specific Requirements,” or 10 CFR 73.23, “Protection of Safeguards Information—Modified Handling: Specific Requirements.” This guide applies to all licensees, certificate holders, applicants, or other persons who produce, receive, or acquire SGI (including SGI with the designation or marking: “Safeguards Information—Modified Handling” (SGI-M)).

The guidance and criteria contained in this document pertain to the protection of SGI as defined in 10 CFR part 73, “Physical Protection of Plants and Materials.” It is intended to assist licensees and other persons who produce, receive, or acquire SGI to establish an information protection system that addresses (1) Information to be protected, (2) conditions for access, (3) protection while in use or storage, (4) preparing and marking documents or other matter, (5) reproduction of matter containing SGI, (6) external transmission of documents and material, (7) processing SGI on electronic systems, (8) removal from the SGI category, and (9) destruction of matter containing SGI.

II. Further Information

The NRC staff is soliciting comments on DG-5034. Comments may be accompanied by relevant information or supporting data and should mention DG-5034 in the subject line.

Comments submitted in writing or in electronic form will be made available to the public in their entirety through the NRC's Agencywide Documents Access and Management System (ADAMS).

Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed. You may submit comments by any of the following methods:

1. Mail comments to: Rulemaking and Directives Branch, Mail Stop: TWB-05-B01M, Division of Administrative Services, Office of Administration, U.S. Nuclear Regulatory Commission, Washington, DC 20555-0001.

2. Federal e-Rulemaking Portal: Go to http://www.regulations.gov and search for documents filed under Docket ID [NRC-2009-0345]. Address questions about NRC dockets to Carol Gallagher, 301-492-3668; e-mail Carol.Gallagher@nrc.gov.

3. Fax comments to: Rulemaking and Directives Branch, Office of Administration, U.S. Nuclear Regulatory Commission at (301) 492-3446.

Requests for technical information about DG-5034 may be directed to the NRC contact, Robert Norman at (301) 415-2278 or e-mail to Robert.Norman@nrc.gov.

Comments would be most helpful if received by October 1, 2009. Comments received after that date will be considered if it is practical to do so, but the NRC is able to ensure consideration only for comments received on or before this date. Although a time limit is given, comments and suggestions in connection with items for inclusion in guides currently being developed or improvements in all published guides are encouraged at any time.

Electronic copies of DG-5034 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML090930608.

In addition, regulatory guides are available for inspection at the NRC's Public Document Room (PDR) located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 30th day of July, 2009.
For the Nuclear Regulatory Commission.
John N. Ridgely,
Acting Chief, Regulatory Guide Development Branch, Division of Engineering, Office of Nuclear Regulatory Research.

[FR Doc. E9-18817 Filed 8-5-09; 8:45 am]

BILLING CODE 7590-01-P